DEPARTMENT OF COMMERCE

International Trade Administration

[A-549-502]

Circular Welded Carbon Steel Pipes and Tubes From Thailand: Final Results of Antidumping Duty Administrative Review and Final Determination of No Shipments; 2015-2016

AGENCY: Enforcement and Compliance, International Trade Administration, U.S. Department of Commerce.

SUMMARY: On April 6, 2017, the Department of Commerce (the Department) published the preliminary results of the 2015-2016 administrative review of the antidumping duty (AD) order on circular welded carbon steel pipes and tubes (pipes and tubes) from Thailand. This review covers two manufacturers/exporters of the subject merchandise, Saha Thai Steel Pipe (Public) Company, Ltd. (Saha Thai) and Pacific Pipe Public Company Limited (Pacific Pipe). The period of review (POR) is March 1, 2015, through February 29, 2016. We gave interested parties an opportunity to comment on the preliminary results. Based on our analysis of the comments received, we made certain changes to our preliminary findings for Saha Thai. The final weighted-average dumping margins for the reviewed producers/exporters are listed below in the section entitled “Final Results of Review.”

DATES: October 10, 2017.

FOR FURTHER INFORMATION CONTACT: Toni Page, AD/CVD Operations, Office VII, Enforcement and Compliance, International Trade Administration, U.S. Department of Commerce, 1401 Constitution Avenue NW., Washington, DC 20230; telephone: (202) 482-1398.

SUPPLEMENTARY INFORMATION:

Background

On April 6, 2017, the Department published in the Federal Register the Preliminary Results.¹ For a history of events that have occurred since the Preliminary Results, see the Issues and Decision Memorandum.² The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly on the Internet at http://enforcement.trade.gov/frn/. The signed and electronic versions of the Issues and Decision Memorandum are identical in content.

¹ See Circular Welded Carbon Steel Pipes and Tubes from Thailand: Preliminary Results of Antidumping Duty Administrative Review and Preliminary Finding of No Shipments; 2015-2016, 82 FR 16793 (April 6, 2017) (Preliminary Results).

² See “Circular Welded Carbon Steel Pipes and Tubes from Thailand: Decision Memorandum for the Final Results of Antidumping Duty Administrative Review; 2015-2016,” dated concurrently with and hereby adopted by this notice (Issues and Decision Memorandum).

Scope of the Order

The products covered by the antidumping order are certain circular welded carbon steel pipes and tubes from Thailand. The subject merchandise has an outside diameter of 0.375 inches or more, but not exceeding 16 inches. For a full description of the scope of this order, please see the accompanying Issues and Decision Memorandum.³

³ See Issues and Decision Memorandum for a full description of the scope of order.

Analysis of Comments Received

All issues raised in the case and rebuttal briefs are addressed in the Issues and Decision Memorandum. A list of issues raised, and to which we responded, in the Issues and Decision Memorandum, is attached to this notice as an Appendix.

Final Determination of No Shipments

The Department preliminarily found that Pacific Pipe had no shipments and, therefore, no reviewable transactions during the POR. The Department received no further comments or information that refute this finding. Thus, the Department continues to find that Pacific Pipe had no reviewable transactions during the POR.

Changes Since the Preliminary Results

Based on a review of the record and comments received from interested parties regarding our Preliminary Results, and for the reasons explained in the Issues and Decision Memorandum, we have made certain changes to Saha Thai's margin calculation.

Final Results of Review

As a result of our review, we determine the following weighted-average dumping margin exists for the period March 1, 2015, through February 29, 2016:

Producer/exporter | Weighted- average dumping margin (percent)
Saha Thai Steel Pipe (Public) Company, Ltd | 1.36
Pacific Pipe Company Limited | *
* No shipments or sales subject to this review. The company has an individual rate from a prior segment of the proceeding in which the firm had shipments or sales.

Assessment Rates

Pursuant to section 751(a)(2)(C) of the Tariff Act of 1930, as amended (the Act) and 19 CFR 351.212(b)(1), the Department determined, and U.S. Customs and Border Protection (CBP) shall assess, antidumping duties on all appropriate entries of subject merchandise, in accordance with the final results of this review. The Department intends to issue appropriate assessment instructions to CBP 15 days after the date of publication of the final results of review.

For Saha Thai, we will base the assessment rate for the corresponding entries on the margin listed above. Additionally, because the Department determined that Pacific Pipe had no shipments of subject merchandise during the POR, any suspended entries that entered under Pacific Pipe's name will be liquidated at the all-others rate effective during the POR.

Cash Deposit Requirements

The following cash deposit requirements will be effective for all shipments of subject merchandise entered, or withdrawn from warehouse, for consumption on or after the date of publication of the final results of this administrative review, as provided for by section 751(a)(2)(C) of the Act: (1) The cash deposit rate for the company under review will be equal to the weighted-average dumping margin established in the final results of this review; (2) for previously reviewed or investigated companies not listed above in the Final Results of Review, including those for which the Department may determine had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 15.67 percent established in the less-than-fair-value investigation.⁴ These deposit requirements, when imposed, shall remain in effect until further notice.

⁴ See Antidumping Duty Order; Circular Welded Carbon Steel Pipes and Tubes from Thailand, 51 FR 8341 (March 11, 1986).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i) of the Act and 19 CFR 351.221(b)(5).

Dated: October 3, 2017.
Gary Taverman,
Deputy Assistant Secretary for Antidumping and Countervailing Duty Operations, performing the non-exclusive functions and duties of the Assistant Secretary for Enforcement and Compliance.

Appendix

Summary

Background

Scope of the Order

Determination of No Shipments for Pacific Pipe

Discussion of the Issues

1. Whether to Disregard Saha Thai's Reported Pipe Specification/Grade Designations

2. Whether to Adjust Saha Thai's Reported Coil Costs

3. Whether to Grant a Duty Drawback Adjustment to Saha Thai

4. Whether to Revise the Date Range for Saha Thai's Home Market and U.S. Sales

[FR Doc. 2017-21747 Filed 10-6-17; 8:45 am]

BILLING CODE 3510-DS-P